DEPARTMENT OF JUSTICE

Office of Juvenile Justice and Delinquency Prevention

[OJP (OJJDP)-1299]

Program Announcement for the Girls Study Group

AGENCY: Office of Justice Programs, Office of Juvenile Justice and Delinquency Prevention, Justice.

ACTION: Notice of solicitation.

SUMMARY: The Office of Juvenile Justice and Delinquency Prevention (OJJDP) is issuing a solicitation for applications from public or private agencies or organizations to assemble and convene a Girls Study Group to develop a sound theoretical and empirical foundation to guide future development, testing, and dissemination of strategies to effectively prevent and reduce girls' involvement in delinquency and violence and consequences of such involvement. It is anticipated that the Girls Study Group, in collaboration with OJJDP's new National Girls Institute, will provide State and local policymakers and practitioners with theoretically sound, culturally and developmentally appropriate, and empirically grounded strategies (program elements, principles, and policies) to prevent and reduce female delinquency and its consequences.

DATES: Applications must be received no later than 5:00 p.m. ET on December 1, 2000.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The Application Kit is also available at OJJDP's Web site at www.ojjdp.ncjrs.org/grants/about.html#kit. (See “Format” later in this announcement for instructions on application standards.)

FOR FURTHER INFORMATION CONTACT: Barbara Allen-Hagen, Social Science Analyst, Research and Program Development Division, Office of Juvenile Justice and Delinquency Prevention, at 202-307-1308 or Anne Bergan, Program Manager, Research and Program Development Division, Office of Juvenile Justice and Delinquency Prevention, at 202-514-5533.

SUPPLEMENTARY INFORMATION:

Purpose

One purpose of this project is to assist the Office of Juvenile Justice and Delinquency Prevention (OJJDP) in furthering its understanding of the risk and protective factors associated with female juvenile offending and of the consequences of such offending. Another is to identify effective strategies for communities to use in their efforts to prevent and reduce female involvement in delinquency and violence.

The successful applicant will convene a study panel, called the Girls Study Group, to review the research literature on the epidemiology and etiology of female juvenile offending and its consequences; develop a female-focused conceptual framework for the project; conduct secondary data analyses; identify effective prevention and intervention programs, policies, and strategies that promise, either through initial empirical evidence or sound theory, to be effective in preventing female delinquency and violence; identify gaps in existing research and programs; and recommend new research and program development. The Girls Study Group will collaborate with OJJDP's new National Girls Institute ¹ on program development, evaluation issues, and dissemination of the Girls Study Group findings to policymakers, practitioners, and the research community.

¹ For information on the National Girls Institute, consult the OJJDP Web site at www.ojjdp.ncjrs.org/grants/current.html for a description of the program.

Overview

The ultimate goal of this project is to develop the research foundation that communities need to make sound decisions on how best to prevent and reduce delinquency and violence by girls. The Girls Study Group will establish the theoretical and empirical basis for disseminating or testing prevention and intervention strategies (i.e., policies, practices, and programs) for girls—effective and promising strategies that are developmentally and culturally appropriate.

This Study Group will consist of 12 to 15 individuals, such as criminologists, sociologists, statisticians, developmental psychologists, mental health professionals, juvenile justice researchers and practitioners, adolescent health specialists, domestic violence experts, and youth workers, reflecting the necessary collective expertise (both practical and theoretical) in female development and juvenile justice system involvement to undertake a comprehensive study of this kind.

The Study Group's major tasks will be to:

• Systematically review the research literature on juvenile female antisocial, delinquent, and violent behavior; child abuse and neglect; and criminal victimization.

• Develop a comprehensive theoretical framework for the project based on an examination of both the applicability of gender-neutral risk and protective factors related to girls' involvement in delinquency and the evidence for female-specific risk and protective factors.

• Explore what is known about the developmental pathways that lead to female delinquent and criminal behavior.

• Conduct secondary analyses of data sets that may shed new light on risk and protective factors, female pathways to delinquency, or effective prevention and intervention strategies for girls.

• Examine the research literature on program evaluation to identify programs, program elements, and implementation principles that are particularly effective or promising in preventing or reducing female delinquency. Also, examine child welfare, mental health, and juvenile justice public policies and practices that achieve the same. Special attention should be paid to identifying key juvenile justice system processing decisions that may have disproportionately negative consequences on female offenders and to exploring remedial policies.

In addition, the successful applicant must possess the necessary leadership, organizational, and analytical capabilities essential for the Group's success. The tasks require the ability to organize and convene a group of researchers and practitioners with recognized expertise in diverse area(s) of female juvenile delinquency, prevention research, child development, child victimization, domestic violence, treatment, and program evaluation. The successful applicant must also demonstrate the ability to lead and interact with group members in order to coordinate a comprehensive literature review, synthesize information from diverse sources, recommend future research topics, and produce interim and final reports and related publications that effectively communicate the results to a broad audience of policymakers, practitioners, and researchers.

Background

According to the Federal Bureau of Investigation Uniform Crime Reporting (UCR) Program (1999), between 1994 and 1998, the number of arrests of juvenile females increased more (or decreased less) than male arrests in most offense categories (Snyder, 1999). In 1980, females represented 11 percent of all juvenile arrests for violent offenses. By 1998, that proportion increased to 17 percent. Although the majority of juvenile crime arrests in 1998 were of males, females represented more than one-quarter of juvenile arrests. There has been growing concern that while most juvenile arrests have been decreasing, the number of female juvenile arrests in some key offense categories such as drug and alcohol violations continues to rise.

Between 1994 and 1998, arrests of juvenile females for robbery, weapons violations, and vandalism decreased less than arrests of juvenile males in the same offense categories. In contrast, arrests of juvenile females for aggravated assault and simple assault increased (up 7 percent and 29 percent, respectively), while assault arrests for juvenile males either dropped or rose more slowly during the same period (down 18 percent and up only 4 percent, respectively). Other offenses, such as drug abuse, liquor law, curfew, and loitering violations, continued to increase for girls at a rate considerably higher than for boys. These arrest patterns are also reflected in status offenses, such as running away. Females represented more than half (58 percent) of all juveniles arrested for running away in 1998.

Additional data demonstrate the increased involvement of females in the juvenile justice system. For example, an examination of trends in juvenile court statistics shows an increase in the number of delinquency cases involving females. Between 1988 and 1997, the number of delinquency cases involving males increased 39 percent, while the number of cases involving females increased 83 percent. Over this period, the relative change in delinquency case rates was greater for females than for males in all major offense categories (Stahl, March 2000). Among females, the largest increases were in the number of person offense and drug offense cases (155 percent and 132 percent increases, respectively).

Characteristics of female juvenile offenders in the juvenile court have also changed over time (Snyder et al., 1999). The majority (62 percent) of females charged with delinquent acts in 1997 were under age 16. Between 1988 and 1997, the number of delinquency cases involving females under age 16 increased 89 percent, while the number of cases involving females age 16 or over increased 74 percent. In 1997, white females accounted for 67 percent of all female juvenile delinquency cases, while black females accounted for 30 percent and females of other races accounted for 4 percent. Between 1988 and 1997, the number of cases involving females increased in all racial groups: whites, 74 percent; blacks, 106 percent; and other races, 102 percent.

Property offense cases (42 percent) accounted for the largest share of formally processed female cases in 1997. Just over one-fourth (27 percent) were person offenses, slightly less than one-fourth (24 percent) were public order offenses, and 7 percent were drug offenses. Female juvenile offenders were securely detained in 15 percent of the delinquency cases processed in 1997. This is an increase of 65 percent in the number of detention cases involving female juveniles since 1988. The number of detained cases grew more for black females (123 percent) than for white females (41 percent) during this period. Detention was used in 21 percent of public order offenses, 18 percent of person offenses, 16 percent of drug law violations, and 10 percent of property offense cases.

More than half (53 percent) of the cases involving females that were formally processed in 1997 resulted in a delinquency adjudication. Once adjudicated delinquent, female offenders received probation in the majority (60 percent) of cases. In 22 percent of the cases, female offenders were placed out of the home in a residential facility. Between 1988 and 1997, the number of cases in which the court ordered delinquent females to be placed in a residential facility increased 105 percent, while the number of formal probation cases increased 129 percent. In 1997, females represented 14 percent of juvenile offenders in residential custody facilities (Sickmund and Wan, 1999).

These increases in arrests, juvenile court cases, and formal handling of female juvenile offenders have clearly affected the composition of offenders who are involved in the juvenile justice system. Although female juvenile arrest rates are growing faster than the rates for males, the proportion of females in the juvenile justice population remains a relatively small minority. Little research has been conducted to explain why females are increasingly coming into the juvenile justice system or to examine strategic responses. Although States and local jurisdictions have traditionally designed programs and interventions primarily for males, they are now faced with a growing number of female juvenile offenders. Little is known about how juvenile females respond to these interventions, and many communities are unprepared to address the specific needs of girls who are involved or at risk of becoming involved in the juvenile justice system.

Not only are there a limited number of studies that focus specifically on female offending, many important studies either do not include females in their samples or do not analyze the female data separately (Kruttschnitt, 1994; Loeber and Farrington, 1998; West, Houser, and Scanlan, 1998). While the literature is incomplete and warrants further development, even for what currently exists, there could be more theoretical integration and practical application to guide prevention and intervention efforts at critical life/developmental stages (Guerra, 1998).

Explanations of female delinquency and criminal careers flow from vastly different disciplinary perspectives, creating a patchwork of understanding. Studies of female delinquency and crime have examined biological, psychological, and developmental factors (Pollack, 1950; Caspi et al., Federal Register 1993; Wasserman, 1995; Broidy and Agnew, 1997; Gilligan, 1982; Hoyt and Scherer, 1998; Girls Inc., 1996); the residual effects of victimization, maltreatment, and neglect (Widom, 1989; Broidy and Agnew, 1997; Accoca and Austin, 1996; Girls Inc., 1996; Giordano et al., 1999); involvement in high-risk behaviors and gangs (Weiher et al., 1991; Accoca, 1999; Thornberry, 1998; Fagan, 1990; Moore and Hagedorn, 1996); gender dynamics of socialization (Steffensmeier and Broidy, forthcoming; Chesney-Lind, 1997; Fagan and Wexler, 1987); macro-level changes in the social, cultural, economic, and political status of women and their roles in society (Adler, 1975; Hartnagel, 1982); and differential processing in the juvenile justice and criminal justice systems (Ensminger, 1987; Kempf-Leonard and Sample, 2000). Some of these studies explain female delinquency and crime through contrasts with male delinquency/crime levels, patterns, and trends—with varying attention to developmental aspects of girls lives and only limited use of nonquantitative methods (Kruttschnitt, 1994). Almost none deal with the life consequence of offending, other than the criminal justice consequences, and few address the combined role of gender and race (Visher and Roth, 1986). In addition, while there are many promising programs for girls, there is little literature on the effectiveness of various approaches (Greene, Peters, & Associates and Northwest Regional Educational Laboratory, 1998; Muller and Mihalic, 1999; Morash, Bynum, and Koons, 1998; Owen and Bloom, 2000).

Clearly, more information is needed regarding female development, the nature of female-specific risk and protective factors, and the effectiveness of intervention and prevention programs, so that those with responsibility for intervening with delinquent girls can make the most appropriate decisions and provide the best services and treatment to juvenile females.

OJJDP has had considerable involvement in issues related to girls in the juvenile justice system. The lack of gender-specific programming for females was noted in the 1992 amendments to the Juvenile Justice and Delinquency Prevention (JJDP) Act of 1974, as amended. Specifically, States are required to provide an analysis of gender bias in the juvenile justice system and of gender-specific service needs and set forth a plan for providing services to this population. This analysis must be completed in order for a State to be eligible to receive funds under OJJDP's Part B Formula Grants program. The 1992 amendments also established the State Challenge Activities Program under Title II, Part E of the JJDP Act, under which States participating in OJJDP's Formula Grants program are offered additional grant funds to support a wide range of gender-specific policies and programs (Hsia and Beyer, 2000). “Though States have made progress in serving the female juvenile population, much more needs to be done to fill continuing gaps in services” (Office of Juvenile Justice and Delinquency Prevention, 1998, p. 6).

In 1996, the Office of Juvenile Justice and Delinquency Prevention funded Girls Inc. for the purpose of convening a national conference on girls' issues. The report from the conference, Prevention and Parity: Girls in the Juvenile Justice System, identified key issues that need to be examined if the juvenile justice system is to meet the needs of girls and young women. The report relied on available research on female juvenile delinquency and at-risk behavior and highlighted promising prevention and intervention programs identified by practitioners in the field. In 1996, OJJDP funded the development of a statistical summary by the National Center for Juvenile Justice, Girls in the Juvenile Justice System, which examined trends in female involvement in different stages of the juvenile justice system (Poe-Yamagata and Butts, 1996). Information from these two publications, along with an Accoca article (1999) and other reports, leads to the conclusion that there is still much that is not known regarding the pathways to female delinquency and effective prevention and intervention strategies with this population and that there is a critical need in the field for sound, defensible solutions for dealing with this emerging problem.

To systematically address these concerns in FY 2000, OJJDP is funding two related programs: the National Girls Institute, designed to provide training and technical assistance to the field on girls' delinquency issues, and the Girls Study Group, the subject of this solicitation for applications. It is anticipated that there will be close collaboration between the two projects in providing critical information to the field. In addition, the Study Group will coordinate its activities with other Office of Justice Programs bureaus and other Federal agencies with an interest in this project.

Goals

The immediate goal of the Girls Study Group is to develop a sound theoretical and empirical foundation to guide future development, testing, and dissemination of strategies to effectively prevent and reduce girls' involvement in delinquency and violence and reduce the consequences of such involvement. Ultimately, it is intended that the Girls Study Group, in collaboration with the National Girls Institute, will provide State and local policymakers and practitioners with theoretically sound, culturally and developmentally appropriate, and empirically grounded strategies (program elements, principles, and policies) to prevent and reduce female delinquency and its consequences.

Although traditional, gender-neutral theories of crime causation provide reasonable explanations for less serious forms of female criminality and for gender differences in specific crime categories (e.g., prostitution, status offenses, and shoplifting), existing theories do not adequately explain gender differences in the commission of serious offenses, contextual differences in criminal behavior (Steffensmeier and Broidy, forthcoming), or the recent divergence of juvenile female arrest trends from male trends. Other theoretical constructs that describe the specific role that being female plays in girls' vulnerability or invulnerability to delinquency and violence should also be explored. It will be important for the Study Group to distinguish between markers and malleable conditions, attitudes, behaviors, and relationships that are amenable to intervention strategies.

The Study Group should examine not only the epidemiology and etiology of female delinquency, but also the life consequences of adolescent girls' involvement in crime and the juvenile justice system. The results of this new research synthesis will be used to inform the dissemination and development of effective gender-appropriate prevention and intervention strategies that address gender-neutral and gender-specific risk and protective factors and causes and correlates of female delinquency. The use of a developmental context for recommending new research, program development, and programming should be considered.

Objectives

The objectives of the Girls Study Group are:

• To develop a better understanding of the trends, developmental patterns, causes, and correlates of female delinquency and violence and the social and justice system consequences of their involvement in delinquency by:

—Increasing empirical knowledge about the risk and protective factors related to female delinquency.

—Charting the developmental pathways to female offending for which girls face serious legal and/or social consequences.

—Determining the patterns and consequences of juvenile justice decisionmaking on female offenders and their lives, both short and long term.

• To develop a comprehensive, integrated theory of female delinquency (initiation, persistence, and desistance) that is derived from:

—Examination of the applicability of gender-neutral theories of delinquency and of theories derived from primarily male samples to pathways to and patterns of serious female offending.

—Exploration of gender-specific theories and processes for their utility in developing and testing new prevention and intervention strategies.

• To evaluate the literature on the efficacy of existing prevention and intervention programs and policies through the lens of a female-focused theory or theories of delinquency (described in the preceding objective) in order to determine which programs, program components, or program principles have demonstrated effectiveness in preventing and reducing juvenile delinquency in females. The results of this review may support the need for further investigation and testing of programs or strategies having theoretical or demonstrated promise.

• To identify the characteristics (racial, ethnic, and cultural) and needs (developmental, psychosocial, behavioral, educational, spiritual, physical and mental health) of female juvenile offenders in the juvenile justice system for the purpose of incorporating that information into developmentally sensitive program development.

• To identify where critical information is lacking about the nature and development of female delinquency and effective prevention and intervention strategies and to recommend future research, programming, and testing to address these gaps in knowledge.

Program Strategy

A 2-year cooperative agreement will be competitively awarded to carry out the program strategy described below.

It will be the responsibility of the grantee to assemble, convene, and chair a multidisciplinary study group representing a cross section of disciplines. The group will conduct an indepth review of existing literature that accomplishes the following: (1) Reviews and synthesizes empirical and theoretical literature related to the development and characteristics of female juvenile delinquency; (2) explores the nature and role of risk and protective factors specifically related to female juvenile delinquency across the domains of individual characteristics and development, family, peer relationships, school, and community; (3) conducts secondary analyses of existing data; (4) identifies promising and effective programs for prevention and intervention; and (5) recommends future research, program development, and evaluation to address gaps in current knowledge about this population. The applicant will produce an indepth final report on the findings and recommendations of the Girls Study Group and various interim and subsequent practitioner-oriented products.

An applicant seeking funding under this initiative must address and be willing to undertake, at a minimum, the tasks described below. Specific tasks may be contracted by the applicant to other groups or individuals. An applicant that plans to use consultants in this manner should (1) clearly spell out the terms of the contract in the application and (2) address the qualifications of the contractor/consultant(s) selected to perform each task.

In developing the Program Narrative section of the application, applicants must provide a comprehensive proposal describing how they plan to achieve the goals, objectives, and tasks of the Girls Study Group as outlined in this program announcement. Greater specificity is required for the first year of the project in terms of detailed objectives, timelines, products, and budget narratives.

Task I: Assemble and Convene the Girls Study Group

The successful applicant should assemble the Girls Study Group and convene at least two meetings within the first year of the grant. The successful applicant will have the organizational capacity to organize and facilitate these meetings. The applicant must demonstrate its ability to bring together individuals with proven expertise and excellence in fields including, but not limited to, criminology, sociology, statistics, developmental psychology, mental health, adolescent health, juvenile justice research and practice, domestic violence, and youth work. Together the membership of the Girls Study Group and assigned project personnel must possess knowledge of and experience with issues of female development and familiarity with at-risk and delinquent girls. The Study Group will provide substantive and technical advice over the course of the study and perform selected tasks as determined by the applicant. For purposes of the application submission, the applicant must identify and obtain letters of agreement and résumés from at least six individuals (of a proposed 12- to 15-member group) to serve on the Study Group, describing how their background and skills meet the requirements of this project. Such commitments by prospective Study Group members are not required to be exclusive agreements with that applicant; that is, consultants may agree to participate with other applicants for the project. The applicant must briefly discuss the qualifications of each Study Group member and articulate how each member's knowledge and expertise will contribute to the overall mission of the Study Group. For the remaining positions needed to complete the Study Group, the applicant must identify only the types of disciplines, skills, and experience that are needed, not the names.

In addition to the 12 to 15 project-funded members of the Study Group, it is anticipated that representatives from the National Girls Institute will serve as ex officio members of the Girls Study Group. Designated staff from OJJDP, the Violence Against Women Office, the National Institute of Justice, and the Bureau of Justice Statistics will be invited to serve as Federal agency coordinating representatives to the Girls Study Group along with others, as OJJDP deems appropriate.

Task II: Review the Literature Review

The Study Group should review both the theoretical and empirical literature from relevant fields, including, but not limited to, criminology, sociology, developmental psychology, mental health, adolescent health, substance abuse, juvenile justice, and domestic violence, as they pertain to female delinquency. In particular, the literature review should address the objectives of the Girls Study Group, as stated above. Applicants must succinctly describe their approach to the literature in relation to the objectives listed above.

Task III: Conduct Secondary Analyses

In the course of the Study Group's work, is expected that the successful applicant will be responsible for conducting secondary analyses of data sets that are likely to contribute to the goals and objectives of the Study Group. Applicants must describe their plans for identifying potential data sets that may be proposed for analysis, determining both the scope and priority of the analysis, and conducting such analyses.

Task IV: Provide Deliverables

The applicant should describe several distinct reports and other products that it envisions being derived from the work of the Study Group. It is expected that the publications and products developed by the successful applicant will provide information relevant to the Study Group's goals and objectives. While the reports must be of a quality that would merit publication in a refereed journal, the authors must also address the needs of various practitioner audiences in the field. The authors will be expected to work closely with the National Girls Institute in facilitating the dissemination of various Study Group reports and products to relevant practitioner and policymaker audiences in the juvenile justice, child welfare, education, pediatric and adolescent health, mental health, and youth work fields.

At a minimum, the Girls Study Group should produce a number of interim, final, and summary reports on the results of its work. Three reports will be published as OJJDP Bulletins: (1) A summary based on national studies and statistical series on the trends in female juvenile delinquency; antisocial, high-risk behavior; and victimization; and the systems' response; (2) a summary of the results of the literature review with respect to new perspectives on risk and protective factors for delinquent behavior having serious consequences for female offenders; and (3) a report on effective and promising prevention and intervention programs related to female-specific risk and protective factors. It is expected that the third report, a final report, and an executive summary will be produced during the second phase of the project. The final report will present the results of the Study Group's work and provide well-substantiated support and recommendations for further research and programming in this area.

Applicants should discuss their plans for developing reports and products in the Project Design section of the Program Narrative.

Eligibility Requirements

OJJDP invites applications from public or private agencies, organizations, institutions, or individuals. Private, for-profit organizations must agree to waive any profit or fee. Applicants must demonstrate that they have experience in coordinating and convening meetings of subject matter experts, conducting extensive literature reviews, carrying out secondary analyses, and writing reports.

In the case of joint applications, one applicant must be clearly indicated as the primary applicant (for correspondence and award purposes) and the other(s) listed as coapplicants. If contractors will be used for specific project tasks, evidence of their qualifications and willingness to undertake the specified task(s) should be provided.

To be eligible for consideration, applicants must strictly adhere to the guidelines for preparing and submitting applications regarding page length, layout, and submission deadlines.

Selection Criteria

Applicants will be evaluated and rated by a peer review panel according to the selection criteria outlined below. In addition, the extent to which the project narrative makes clear and logical connections among the components listed below will be considered in assessing a project's merits. It is further recommended that applications be organized and presented in a way that enables application reviewers to evaluate the proposal in terms of the selection criteria outlined below.

Issues To Be Addressed (25 points)

The applicant must include a clear and concise discussion of the issues related to understanding, preventing, and responding to female juvenile delinquency and its consequences for girls. The applicant must identify the most important research questions for the Girls Study Group to address. This discussion should reflect the applicant's understanding of the need for undertaking this initiative now; the anticipated challenges that face the Girls Study Group in successfully accomplishing the stated goals and objectives and ways to address those issues; and the potential utility of this project and its products for those who are dealing with or studying troubled girls, dangerous girls, and girls in the juvenile justice system.

Goals and Objectives (10 points)

The applicant must describe how it will address the stated goals and each of the objectives outlined in the solicitation. The goals and objectives must relate to the identified research questions and issues to be addressed. Any significant modification of the stated goals and objectives should be clearly justified and the implications of any variation carried through in the rest of the proposal. Objectives should specify clearly defined, measurable tasks that will enable the applicant to achieve the goals of the project.

Project Design (35 points)

Applicants should present a well developed project design that clearly delineates the specific activities, the people and other resources involved, and the time lines for accomplishing the tasks outlined in the Program Strategy, and for developing the Deliverables described above. The narrative must discuss how and when major activities for each task will be accomplished and how these tasks will build on each other to reach the project's goal and objectives. A time task chart should be included in appendix A of the application.

Management and Organizational Capability (20 points)

The applicant should include a discussion of how it will assemble, coordinate, and manage the Girls Study Group in a way that promises to achieve the stated goals and objectives. The applicant must clearly define the roles and responsibilities of key project staff, members of the Girls Study Group, and its chair(s). An organizational chart must be included in appendix B. Applicants should also discuss how they will ensure the quality and utility of the products generated from the Girls Study Group and propose how they will coordinate their activities with the National Girls Institute. The applicant must describe knowledge and experience of key staff relevant to this initiative and any organizational experience demonstrating its ability to accomplish the project objectives and to work with experts from diverse disciplines and perspectives to accomplish a common goal. The applicant must describe the process of facilitating Study Group meetings and tasks and describe in detail the panel of experts the applicant would convene for the project. Together the key project staff and the membership of the Girls Study Group must collectively possess knowledge of and experience with issues of female development and familiarity with difficult and troubled girls and girls already in the juvenile justice system, as described in the discussion of Task 1. Each proposed Study Group member must submit a letter of agreement stating his/her commitment to participate in and contribute to the goals and objectives of the Girls Study Group. Such commitments by prospective Study Group members are not required to be exclusive agreements. Group members' statement-of-participation letters and résumés must be attached in appendix B, along with all staff résumés. The Study Group panel should number 12 to 15 participants.

Budget (10 points)

Applicants must provide a proposed budget that is complete, detailed, reasonable, allowable, and cost effective in relation to the activities to be undertaken during the first 12-month budget period. A detailed budget narrative should be included in appendix C and conform to the guidelines in the OJJDP Application Kit. For the second 12-month budget period, the applicant should present a preliminary budget in appendix C without a detailed budget narrative. Applications must also conform to Federal requirements with respect to travel, equipment, and procurement policies.

Format

A program narrative, not to exceed 40 pages (excluding forms, table of contents, project abstract, certificates of confidentiality, coordination of Federal efforts, assurances, and appendix) must be submitted on 8½- by 11-inch paper, double spaced on one side of the paper in a standard 12-point font. The narrative should be preceded by a one-page project abstract, which must also be submitted on 8½- by 11-inch paper, double-spaced on one side of the paper in a standard 12-point font. The abstract should not exceed a maximum length of 400 words. A table of contents is also required. Appendix A should contain the project's timeline with dates for initiation and completion of critical project tasks and products. Appendix B should contain an organizational chart, résumés, and letters of support from each of the proposed Study Group members and résumés for any key project staff who are not considered members of the Study Group. Appendix C should contain the detailed budge narrative. These standards are necessary to maintain fair and uniform standards among all applicants. If the application does not conform to these standards, OJJDP will deem the application ineligible for consideration.

Award Period

This project will be funded for 2 years in two 1-year budget periods. Applicants should submit a 2-year project plan. Funding after the first budget period depends on performance of the grantee, availability of funds, and other criteria established at the time of the award.

Award Amount

Up to $300,000 is available for the initial 12-month budget period. It is anticipated that year two will be funded at a similar level of support.

Privacy Certificate

U.S. Department of Justice (DOJ) regulations require that a Privacy Certificate be submitted as part of any application for a project in which information identifiable to a private person will be collected for research or statistical purposes. The purpose of the Privacy Certificate is to ensure that the applicant will comply with the confidentiality requirements of 42 U.S.C. 3789g and 28 CFR part 22, which essentially require that private information collected in the course of research activities be used only for research purposes.

Catalog of Federal Domestic Assistance (CFDA) Number

For this program, the CFDA number, which is required on the Application for Federal Assistance, Standard Form 424, is 16.542. Form 424 can be found in the OJJDP Application Kit, which can be obtained by contacting the Juvenile Justice Clearinghouse at 800-638-8736 or sending an e-mail request to puborder@ncjrs.org The Application Kit is also available online at www.ojjdp.ncjrs.org/grants/about.html#kit.

Coordination of Federal Efforts

To encourage better coordination among Federal agencies in addressing State and local needs, DOJ is requesting applicants to provide information on the following: (1) Active Federal grant award(s) supporting this or related efforts, including awards from DOJ; (2) any pending application(s) for Federal funds for this or related efforts; and (3) plans for coordinating any funds described in items (1) or (2) with the funding sought by this application. For each Federal award, applicants must include the program or project title, the Federal grantor agency, the amount of the award, and a brief description of its purpose. This statement of coordination of Federal efforts should be placed in appendix E. Include in appendix E a list of authors (by section) of this proposal and indicate whether this proposal, or portions of it, have been submitted to other Federal agencies for funding.

The term “related efforts” is defined for these purposes as one of the following:

• Efforts for the same purpose (i.e., the proposed award would supplement, expand, complement, or continue activities funded with other Federal grants).

• Another phase or component of the same program or project (e.g., to implement a planning effort funded by other Federal funds or to provide a substance abuse treatment or education component within a criminal justice project).

• Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, Maryland 20850; 301-519-5535. Faxed or e-mailed applications will not be accepted. Note: In the lower left-hand corner of the envelope, the applicant must clearly write “Girls Study Group.”

Due Date

Applicants are responsible for ensuring that the original and five copies of the application package are received by 5:00 p.m. ET on December 1, 2000.

Contact

For further information, contact Barbara Allen-Hagen, Social Science Analyst, Research and Program Development Division, OJJDP, at 202-307-1308, or send an e-mail inquiry to barbara@ojp.usdoj.gov; or contact Anne Bergan, Program Manager, Research and Program Development Division, OJJDP, at 202-514-5533, or send an e-mail inquiry to bergana@ojp.usdoj.gov.

References

Accoca, L. 1999. Investing in girls: A 21st century strategy. Juvenile Justice 6(1):3-13.

Accoca, L. 1998. Outside/inside: The violation of American girls at home, on the streets, and in the juvenile justice system. Crime and Delinquency 44(4):561-589.

Accoca, L., and Austin, J. 1996. The Hidden Crisis: Women in Prison. San Francisco, CA: National Council on Crime and Delinquency.

Adler, F. 1975. Sisters in Crime: The Rise of the New Female Criminal. New York, NY: McGraw-Hill, pp. 21-22.

Broidy, L., and Agnew, R. 1997. Gender and crime: A general strain theory perspective. Journal of Research in Crime and Delinquency 34(3):275-299.

Caspi, A., Lynam, D., Moffitt, T.E., and Silva, P. 1993. Unraveling girls' delinquency: Biological, dispositional, and contextual contributions to adolescent misbehavior. Developmental Psychology 29(1):19-30.

Chesney-Lind, M. 1997. The Female Offender. Thousand Oaks, CA: Sage Publications.

Chesney-Lind, M. 1998. What to do about girls? Promising perspectives and effective strategies. Paper prepared for ICCA's 6th Annual Research Conference. Arlington, VA. (Copies available from the author at the Center for Youth Research, University of Hawaii at Mãnoa.)

Ensminger, M.E. 1987. Adolescent sexual behavior as it relates to the transition behaviors in youth. In Risking the Future: Adolescent Sexuality, Pregnancy and Childbearing. Volume II: Working Papers and Statistical Appendices, edited by S.L. Hoffert and C.D. Hayes. Washington, DC: National Academy Press, pp. 36-55.

Fagan, J. 1990. Social processes of delinquency and drug use among urban gangs. In Gangs in America, edited by C.R. Huff. Newbury Park, CA: Sage Publications.

Fagan, J., and Wexler, S. 1987. Crime at home and crime in the streets. The relationship between family and stranger violence. Violence and Victimization 2(1):5-23.

Federal Bureau of Investigation. 1999. Crime in the United States. Washington, DC: U.S. Department of Justice, Federal Bureau of Investigation.

Gilligan, C. 1982. In a Different Voice: Psychological Theory and Women's Development. Cambridge, MA: Harvard University Press.

Giordano, P.C., Millhollin, T.J., Cernkovich, S.A., Pugh, M.D., and Rudolph, J.L. 1999. Delinquency, identity, and involvement in relationship violence. Criminology 37(1):17-40.

Girls Inc. 1996. Prevention and Parity: Girls in the Juvenile System. Washington, DC: U.S. Department of Justice, Office of Justice Programs, Office of Juvenile Justice and Delinquency Prevention.

Greene, Peters, & Associates and Northwest Regional Educational Laboratory. 1998. Guiding Principles for Promising Female Programming and Inventory of Best Practices. Washington, DC: U.S. Department of Justice, Office of Justice Programs, Office of Juvenile Justice and Delinquency Prevention.

Guerra, N.G. 1998. Serious and violent juvenile offenders: Gaps in knowledge and research priorities. In Serious and Violent Juvenile Offenders: Risk Factors and Successful Interventions, edited by R. Loeber and D. Farrington. Thousand Oaks, CA: Sage Publications.

Hartnagel, T. 1982. Modernization, female social roles, and female crime: A cross-national investigation. Sociological Quarterly 23:477-490.

Hoyt, S., and Scherer, D.G. 1998. Female Juvenile Delinquency: Misunderstood by the Juvenile Justice System, Neglected by Social Science. New York, NY: Law and Human Behavior.

Hsia, H.M., and Beyer, M. 2000. System Change Through State Challenge Activities: Approaches and Products. Bulletin. Washington, DC: U.S. Department of Justice, Office of Justice Programs, Office of Juvenile Justice and Delinquency Prevention.

Kempf-Leonard, K., and Sample, L.L. 2000 (March). Disparity based on sex: Is gender specific treatment warranted? Justice Quarterly 17(1).

Kruttschnitt, C. 1994. Gender and interpersonal violence. In Understanding and Preventing Violence, Volume 3: Social Influences, edited by A.J. Reiss, Jr., and J.A. Roth. Washington, DC: National Academy Press.

Loeber, R., and Farrington, D., eds. 1998. Serious and Violent Juvenile Offenders : Risk Factors and Successful Interventions. Thousand Oaks, CA: Sage Publications.

Moore, J.W., and J.M. Hagedorn. 1996. What happens to girls in the gang? In Gangs in America, edited by C.R. Huff. Thousand Oaks, CA: Sage Publications.

Morash, M., Bynum, T.S., and Koons, B.A. 1998. Women Offenders: Programming Needs and Promising Approaches. Research in Brief. Washington, DC: U.S. Department of Justice, Office of Justice Programs, National Institute of Justice.

Muller, J., and Mihalic, S. 1999. Blue Prints: A Violence Prevention Initiative. Fact Sheet. Washington, DC: U.S. Department of Justice, Office of Justice Programs, Office of Juvenile Justice and Delinquency Prevention.

Office of Juvenile Justice and Delinquency Prevention. 1998. Juvenile Female Offenders: Status of the States Report. Washington, DC: U.S. Department of Justice, Office of Justice Programs, Office of Juvenile Justice and Delinquency Prevention.

Owen, B., and Bloom, B. 2000. Profiling the needs of young female offenders: Instrument development and pilot study. Unpublished final report to the National Institute of Justice. Fresno, CA: California State University, Fresno. (Photocopies of this report are available for a nominal fee from the National Criminal Justice Reference Service, 800-851-3420.)

Poe-Yamagata, E., and Butts, J.A. 1996. Female Offenders in the Juvenile Justice System. Statistics Summary. Washington, DC: U.S. Department of Justice, Office of Justice Programs, Office of Juvenile Justice and Delinquency Prevention.

Pollack, O. 1950. The Criminality of Women. Philadelphia, PA: University of Pennsylvania Press (as cited in Steffensmeier, D., and Broidy, L. Forthcoming. Explaining female offending. In Women, Crime and Criminal Justices: Contemporary Issues, edited by L. Goodstein. Los Angeles, CA: Roxbury Press).

Sickmund, M., and Wan, Yi-chun. 1999. Census of juveniles in residential placement: 1997 databook. Online: www.ojjdp.ncjrs.org/ojstatbb/Cjrp97/OpenPage.asp.

Snyder, H.N. 1999. Juvenile Arrests 1998. Bulletin. Washington, DC: U.S. Department of Justice, Office of Justice Programs, Office of Juvenile Justice and Delinquency Prevention.

Snyder, H., Finnegan, T., Stahl, A., and Poole, R. 1999. Easy Access to Juvenile Court Statistics: 1988-1997 [data analysis and presentation package]. Pittsburgh, PA: National Center for Juvenile Justice [producer]. Washington, DC: Office of Juvenile Justice and Delinquency Prevention [distributor].

Stahl, A.L. 2000. Delinquency Cases in Juvenile Courts, 1997. Fact Sheet. Washington, DC: U.S. Department of Justice, Office of Justice Programs, Office of Juvenile Justice and Delinquency Prevention.

Steffensmeier, D., and Broidy, L. Forthcoming. Explaining female offending. In Women, Crime and Criminal Justices: Contemporary Issues, edited by L. Goodstein. Los Angeles, CA: Roxbury Press.

Thornberry, T.P. 1998. Membership in youth gangs and involvement in serious and violent offending. In Serious and Violent Juvenile Offenders: Risk Factors and Successful Interventions, edited by R. Loeber and D. Farrington. Thousand Oaks, CA: Sage Publications.

Visher, C., and Roth, J.A. 1986. Appendix A: Participation in criminal careers. In Criminal Careers and “Career Criminals,” vol. 1, edited by A. Blumstein, J. Cohen, J.A. Roth, and C. Visher. Washington, DC: National Academy Press, pp. 211-291.

Wasserman, G.A. 1995. Is there an alternate pathway for girls' antisocial behavior? Paper presented at the annual meeting of the American Academy of Child and Adolescent Psychiatry, Philadelphia, PA.

Weiher, A.W., Huizinga, D., Lizotte, A.J., and van Kammen, W. 1991. The relationship between sexual activity, pregnancy, delinquency and drug use. In Urban Delinquency and Substance Abuse: Technical Report, vol. 1, edited by D. Huizinga, R. Loeber, and T. Thornberry. Washington, DC: U.S. Department of Justice, Office of Justice Programs, Office of Juvenile Justice and Delinquency Prevention, pp. 6-1 to 6-27.

West, K.K., Hauser, R.M., and Scanlan, T.M., eds. 1998. Longitudinal Surveys of Children. Committee on National Statistics, Board on Children, Youth, and Families, Commission on Behavioral and Social Sciences, National Research Council, Institute of Medicine. Washington, DC: National Academy Press.

Widom, C.S. 1989. Child abuse, neglect and violent criminal behavior. Criminology 27:251-271.

Dated: September 27, 2000.
John J. Wilson,
Acting Administrator, Office of Juvenile Justice and Delinquency Prevention.

[FR Doc. 00-25239 Filed 9-29-00; 8:45 am]

BILLING CODE 4410-18-P